ENVIRONMENTAL PROTECTION AGENCY

[EPA-HQ-OARM-2006-0835; FRL-8485-6]

Agency Information Collection Activities; Submission to OMB for Review and Approval; Comment Request: Applicant Background Questionnaire: Race, National Origin, Gender, and Disability Demographics (Renewal); EPA ICR No. 2248.03, OMB Control No. 2030-0045

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 23, 2007.

ADDRESSES: Submit your comments, referencing Docket ID No. EPA-HQ-OARM-2006-0835 to (1) EPA online using www.regulations.gov., and (2) OMB by mail to: Office of Information and Regulatory Affairs, Office of Management and Budget (OMB), Attention: Desk Officer for EPA, 725 17th Street, NW., Washington, DC 20503.

FOR FURTHER INFORMATION CONTACT: Rosyletta Simms, Office of Human Resources, Mail Code 3600A, Environmental Protection Agency, 1200 Pennsylvania Ave., NW., Washington, DC 20460; telephone number: 202-564-7897; fax number: 202-564-4613; e-mail address: simms.rosyletta@epa.gov.

SUPPLEMENTARY INFORMATION: EPA has submitted the following ICR to OMB for review and approval according to the procedures prescribed in 5 CFR 1320.12. On July 11, 2007 (72 FR 37760) EPA sought comments on this ICR pursuant to 5 CFR 1320.8(d). EPA received no comments. Any additional comments on this ICR should be submitted to EPA and OMB within 30 days of this notice.

EPA has established a public docket for this ICR under Docket ID No. EPA-HQ-OARM-2006-0835, which is available for online viewing at www.regulations.gov, or in person viewing at the Office of Environmental Information (OEI) Docket and Information Center at the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Office of Environmental Information Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Applicant Background Questionnaire: Race, National Origin, Gender, and Disability Demographics (Renewal).

ICR numbers: EPA ICR No. 2248.03, OMB Control No. 2030-0045.

ICR Status: This ICR is scheduled to expire on November 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The purpose of this information collection request is to seek approval to use the Environmental Protection Agency's EZhire, vacancy announcement and job application system, to collect gender, race, national origin, and disability information from employees within the agency and outside job applicants. All job applicants, whether internal or external, are asked to complete, on a voluntary basis, an “Applicant Background Questionnaire: Race, National Origin, Gender, and Disability Demographics.” This data is required for compliance with the Equal Employment Opportunities Commission's (EEOC) MD 715 and 29 CFR 1614.601. Agencies are required to: (1) Maintain a system that collects and maintains accurate information on the race, national origin, gender and disability of agency employees; (2) maintain a system that tracks applicant flow data, which identifies applicants by race, national origin, sex, and disability status and disposition of all applications; and (3) maintain a tracking system of recruitment activities to permit analyses of these efforts in any examination of potential barriers to equality of opportunity. MD 715 requires agencies to “conduct an internal review and analysis of the effects of all current and proposed policies, practices, procedures and conditions that are directly or indirectly, related to the employment of individuals with disabilities.” EPA must collect and analyze information and data necessary to make an informed assessment about the extent to which the agency is meeting its responsibility to provide employment opportunities for qualified applicants and employees with disabilities, especially those with targeted disabilities. The data supplied by job applicants is strictly confidential and encrypted within the software. The data is reported in the aggregate for affirmative employment analyses, planning and reporting required by the EEOC and the Office of Personnel Management.

Burden Statement: The annual public reporting and recordkeeping burden for this collection of information is estimated to average of 28 minutes or .46 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: all applicants applying for jobs at EPA.

Estimated Number of Respondents: 32,590.

Frequency of Response: Once per applicant.

Estimated Total Annual Hour Burden: 15,208.

Estimated Total Annual Cost: $0, includes $0 annualized Capital Startup costs, $0 annualized Operation and Maintenance (O&M) costs, and $0 annualized Labor costs.

Changes in the Estimates: There is no increase/decrease of hours in the total estimated burden currently identified in the OMB Inventory of Approved ICR Burdens.

Dated: October 16, 2007.
Sara Hisel-McCoy,
Acting Director, Collection Strategies Division.

[FR Doc. E7-20835 Filed 10-22-07; 8:45 am]

BILLING CODE 6560-50-P